NUCLEAR REGULATORY COMMISSION

[Docket Nos. 50-373 and 50-374; NRC-2011-0234]

Exelon Generation Company, LLC; Notice of Withdrawal of Application for Amendment to Facility Operating License

The U.S. Nuclear Regulatory Commission (NRC, the Commission) has granted the request of Exelon Generation Company, LLC (Exelon, or the licensee) to withdraw its May 6, 2011, application for proposed amendment to Facility Operating License No. NPF-11 and Facility Operating License No. NPF-18 for LaSalle County Station, Units 1 and 2, respectively, in LaSalle County, Illinois.

The proposed amendment would have revised Technical Specification 3.7.3, “Ultimate Heat Sink,” to reduce the allowed sedimentation in the core standby cooling system (CSCS) pond from ≤1.5 feet to ≤1.0 feet, which allows the temperature of the cooling water supplied to the plant to be increased from ≤101.25 °F to ≤101.95 °F, resulting in a higher volume of cooling water available in the CSCS pond.

The Commission had previously issued a Notice of Consideration of Issuance of Amendment published in the Federal Register on June 28, 2011 (76 FR 37847). However, by letter dated September 14, 2011, the licensee withdrew the proposed change.

For further details with respect to this action, see the application for amendment dated May 6, 2011, and the licensee's letter dated September 14, 2011, which withdrew the application for license amendment. Documents may be examined, and/or copied for a fee, at the NRC's Public Document Room (PDR), located at One White Flint North, Room O1-F21, 11555 Rockville Pike (first floor), Rockville, Maryland 20852. Publicly available records will be accessible electronically from the Agencywide Documents Access and Management System (ADAMS) Public Electronic Reading Room on the Internet at the NRC Web site, http://www.nrc.gov/reading-rm/adams.html. Persons who do not have access to ADAMS should contact the NRC PDR Reference staff by telephone at 1-800-397-4209, or 301-415-4737 or by e-mail to pdr.resource@nrc.gov.

Dated at Rockville, Maryland, this 27th day of September, 2011.
For the Nuclear Regulatory Commission.
Araceli T. Billoch Colón,
Project Manager, Plant Licensing Branch III-2, Division of Operating Reactor Licensing, Office of Nuclear Reactor Regulation.

[FR Doc. 2011-25786 Filed 10-5-11; 8:45 am]

BILLING CODE 7590-01-P